SELECTIVE SERVICE SYSTEM

Form To Be Submitted to the Office of Management and Budget for Extension of Clearance

AGENCY: Selective Service System.

ACTION: Notice.

The following form will be submitted to the Office of Management and Budget (OMB) for extension of clearance without change in compliance with the Paperwork Reduction Act (44 U.S.C. Chapter 35):

SSS Form 750

Title: Request for a Medical Exception to the COVID-19 Vaccination Requirement.

Summary: Per Executive Order 14043, Requiring Coronavirus Disease 2019 Vaccination for Federal Employees, and guidance from the Safer Federal Workforce Task Force, the Selective Service System (SSS) created and received emergency clearance for the Agency's Request for a Medical Exception to the COVID-19 Vaccination Requirement form. This form is for SSS employees requesting a medical exception to the vaccine requirements. The current form is only valid for six months. In anticipation of future requests from its employees, the SSS is seeking an extension of this currently approved collection.

Respondents: SSS employees and their personal medical providers.

Frequency: Completion is a one-time occurrence.

Burden: A burden of 30 minutes or less on the individual respondent.

SUPPLEMENTARY INFORMATION: Copies of the above identified form can be obtained upon written request to the Selective Service System, IT Directorate, 1515 Wilson Boulevard, Arlington, Virginia 22209-2425.

Written comments and recommendations for the proposed extension of clearance without change of the form should be sent within 30 days of the publication of this notice to the Selective Service System, Mr. Daniel Mira, Senior Agency Official for Privacy, 1515 Wilson Boulevard, Arlington, Virginia 22209-2425. A copy of the comments should be sent to the Office of Information and Regulatory Affairs, Attention: Desk Officer, Selective Service System, Office of DC 20503.

Daniel Mira,
Deputy Chief Information Officer, Senior Agency Official for Privacy.

[FR Doc. 2022-10349 Filed 5-12-22; 8:45 am]

BILLING CODE 8015-01-P